DEPARTMENT OF TRANSPORTATION

Federal Highway Administration

Notice To Rescind a Notice of Intent To Prepare an Environmental Impact Statement: Los Angeles County, California

AGENCY: Federal Highway Administration (FHWA), DOT.

ACTION: Rescind Notice of Intent to prepare an Environmental Impact Statement.

SUMMARY: The FHWA, on behalf of the California Department of Transportation (Caltrans) is issuing this notice to advise the public that the Notice of Intent (NOI) published on October 11, 2016 (Page: 70247-70248 (2 pages), Document Number: 2016-24480) to prepare an Environmental Impact Statement (EIS) for a proposed highway project on Interstate 605 in Los Angeles County is being rescinded.

FOR FURTHER INFORMATION CONTACT: Ronald Kosinski, Deputy District Director, Division of Environmental Planning, District 7, 100 South Main Street, Suite 100, Los Angeles, CA 90012, (213) 897-0703.

SUPPLEMENTARY INFORMATION: Effective July 1, 2007, the Federal Highway Administration (FHWA) assigned, and the California Department of Transportation (Caltrans) assumed, environmental responsibilities for this project pursuant to 23 U.S.C. 327. Caltrans, as the delegated National Environmental Policy Act (NEPA) agency, is rescinding the NOI to prepare an EIS for the I-605/SR-60 Improvement Project in Los Angeles County, California.

The Project proposes widening along southbound and northbound I-605 and the addition of one mixed flow lane (a standard freeway lane where vehicles with any number of occupants can drive anytime) along westbound SR-60 within the Project limits. The Project will also include the addition of auxiliary lanes, where necessary (lanes used to separate entering, exiting, or weaving traffic from through traffic). Improvements to local streets and interchanges would be required as part of the Project. Interchanges that would be affected include the I-605/Slauson Avenue Interchange, I-605/Washington Boulevard Interchange, I-605/Whittier Boulevard Interchange, I-605/Beverly Boulevard Interchange, I-605/Rose Hills Road Interchange, I-605/Peck Road Interchange, I-605/SR 60 Interchange, I-605/Valley Boulevard Interchange, and SR 60/Peck Road Interchange. The NOI is being rescinded due to the extension of project limits. Comments or questions concerning this proposed action should be directed to Caltrans at the address provided above.

(Catalog of Federal Domestic Assistance Program Number 20.205, Highway Planning and Construction. The regulations implementing Executive Order 12372 regarding intergovernmental consultation on Federal programs and activities apply to this program.)

Issued on: October 12, 2016.
Josué M. Yambó,
Senior Transportation Engineer, Federal Highway Administration, Los Angeles, California.

[FR Doc. 2016-25218 Filed 10-18-16; 8:45 am]

BILLING CODE 4910-22-P